DEPARTMENT OF ENERGY

Energy Information Administration

Agency information collection activities: Submission for emergency OMB review; comment request

AGENCY: Energy Information Administration (EIA), Department of Energy (DOE).

ACTION: Agency Information Collection Activities: Submission for Emergency OMB Review; Comment Request.

SUMMARY: The EIA has submitted the energy information collection listed at the end of this notice to the Office of Management and Budget (OMB) for emergency processing under section 3507(j)(1) of the Paperwork Reduction Act of 1995 (Pub. L. 104-13) (44 U.S.C. 3501 et seq.) by January 14, 2002. The reason for this emergency clearance request is that the American Gas Association (AGA) plans to discontinue collecting and releasing weekly underground natural gas storage statistics at the end of April 2002. The Secretary of Energy announced on October 30, 2001, that EIA would begin to survey weekly storage activities when AGA discontinues its data collection. Storage estimates will be provided for three multi-state regions comprising the lower 48 States. These regions were chosen because they are familiar to both respondents and data users. Normal clearance procedures would prevent the timely collection of this storage information by EIA when AGA discontinues its survey.

DATES: Comments must be filed by January 4, 2002.

ADDRESSES: Send comments to Bryon Allen, OMB Desk Officer for DOE, Office of Information and Regulatory Affairs, Office of Management and Budget. To ensure receipt of the comments by the due date, submission by FAX at 202-395-7285 or e-mail to BAllen@omb.eop.gov is recommended. The mailing address is 726 Jackson Place NW., Washington, DC 20503. The OMB DOE Desk Officer may be telephoned at (202) 395-7318. (A copy of your comments should also be provided to EIA's Statistics and Methods Group at the address below.)

FOR FURTHER INFORMATION CONTACT: Requests for additional information should be directed to Herbert Miller. Copies of the materials submitted to OMB may be obtained at http://www.eia.doe.gov/pub/oil_gas/natural_gas/survey_forms/eia912package.pdf or by contacting Herbert Miller at (202) 287-1711. To ensure receipt of the comments by the due date, submission by FAX at 202-287-1705 or e-mail to herbert.miller@eia.doe.gov is recommended. The mailing address is Statistics and Methods Group (EI-70), Forrestal Building, U.S. Department of Energy, Washington, DC 20585-0670.

SUPPLEMENTARY INFORMATION: This section contains the following information about the energy information collection submitted to OMB for review: (1) The collection number and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Forms EIA-912, “Weekly Underground Natural Gas Storage Report”

2. Energy Information Administration

3. OMB Number 1905-NEW

4. New (emergency clearance request)

5. Mandatory

6. The EIA-912 will collect data on natural gas inventories held in underground storage facilities in the United States. EIA will release weekly summary information on the EIA web site along with analyses of the data. Respondents will be a sample of 50 natural gas underground storage operators.

7. Businesses or other for-profit

8. 2,600 hours (50 respondents x 52 reports x 1 hour per response)

Statutory Authority: Section 3507(j)(1) of the Paperwork Reduction Act of 1995 (Pub. L. No. 104-13).

Issued in Washington, DC, December 13, 2001.
Jay H. Casselberry,
Agency Clearance Officer, Statistics and Methods Group, Energy Information Administration.

[FR Doc. 01-31117 Filed 12-17-01; 8:45 am]

BILLING CODE 6450-01-P